DEPARTMENT OF EDUCATION

[CDFA Nos: 84.116A and 84.116B]

Office of Postsecondary Education, Fund for the Improvement of Postsecondary Education

ACTION: Notice Announcing Technical Assistance Workshops for Fiscal Year (FY) 2005 Comprehensive Program.

SUMMARY: This notice provides information about four workshops to assist individuals interested in learning more about the Fiscal Year (FY) 2005 programs of the Fund for the Improvement of Postsecondary Education (FIPSE). Program staff will present program information and answer questions about FIPSE's programs. The workshops will focus primarily on the Comprehensive Program, which provides grants for innovative reform projects that hold promise as models for the resolution of important issues and problems in postsecondary education. Additional information about FIPSE's programs can be found on the Internet at the following site: http://www.ed.gov/FIPSE.

Although the Department has not yet announced an application deadline date for its FY 2005 FIPSE grant competitions in the Federal Register, the Department is holding these workshops to give potential applicants relevant background information on FIPSE programs for which grant competitions are expected to be held in FY 2005. Specific requirements for grant competitions will be announced in the Federal Register.

FOR FURTHER INFORMATION CONTACT: Levenia Ishmell, U.S. Department of Education, 1990 K Street, NW., room 8031, Washington, DC 20006-8544. Telephone: (202) 502-7668 or by e-mail: levenia.ishmell@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

SUPPLEMENTARY INFORMATION: The technical assistance workshops will be held as follows:

1. Atlanta, Georgia: Monday, September 27, 12:30-3:30 p.m. Hilton Garden Inn Atlanta Airport-Millenium Center, 2301 Sullivan Road, College Park, GA 30337. Phone: 404-766-0303.

2. St. Louis, Missouri: Wednesday, September 29, 12:30-3:30 p.m. Renaissance St. Louis Airport Hotel, 9801 Natural Bridge Road, St. Louis, MO 63134. Phone: 314-429-1100.

3. Los Angeles, California: Thursday, September 30, 12:30-3:30 p.m. Westin Los Angeles Airport Hotel, 5400 West Century Boulevard, Los Angeles, CA 90045. Phone: 310-216-5858.

4. Washington, DC: Tuesday, October 5, 10 a.m. -1 p.m. with optional writing clinic 2-4 p.m. Barnard Auditorium, Education Department, 400 Maryland Avenue, SW., Washington, DC 20202.

Space at the workshops is limited. Interested individuals are invited to register at this site: http://www.ed.gov/FIPSE.

Please indicate the location you are requesting. You will receive an e-mail reply confirming the status of your registration along with exact information on workshop locations. All confirmed registrants are asked to bring their printed e-mail confirmation to the workshop.

Assistance to Individuals With Disabilities Attending the Technical Assistance Workshops

The technical assistance workshop sites are accessible to individuals with disabilities. If you will need an auxiliary aid or service to participate in the workshop (e.g., interpreting service, assistive listening device, or materials in an alternative format) notify the contact person listed under FOR FURTHER INFORMATION CONTACT at least two weeks before the scheduled workshop date. Although we will attempt to meet a request received after this date, we may not be able to make available the requested auxiliary aid or service because of insufficient time to arrange it.

Electronic Access to This Document

You may view this document, as well as all other documents of this Department published in the Federal Register, in text or Adobe Portable Document Format (PDF) on the Internet at the following site: http://www.ed.gov/news/fedregister.

To use PDF you must have Adobe Acrobat Reader, which is available free at the site. If you have questions about using PDF, call the U.S. Government Printing Office (GPO), toll free at 1-888-293-6498, or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1138-1138d.

Dated: August 18, 2004.
Sally L. Stroup,
Assistant Secretary for Postsecondary Education.

[FR Doc. 04-19275 Filed 8-20-04; 8:45 am]

BILLING CODE 4000-01-P